DEPARTMENT OF THE INTERIOR

Fish and Wildlife Service

[FWS-R2-R-2009-N210; 20131-1265-2CCP-S3]

Laguna Atascosa National Wildlife Refuge, Cameron and Willacy Counties, TX

AGENCY: Fish and Wildlife Service, Interior.

ACTION: Notice of availability: draft comprehensive conservation plan and environmental assessment; request for comments.

SUMMARY: We, the U.S. Fish and Wildlife Service (Service), announce the availability of a draft comprehensive conservation plan (CCP) and environmental assessment (EA) for the Laguna Atascosa National Wildlife Refuge (Refuge, NWR) for public review and comment. In these documents, we describe alternatives, including our preferred alternative, to manage this Refuge for the 15 years following approval of the final CCP.

DATES: To ensure consideration, please send your written comments by February 12, 2010. We will announce upcoming public meetings in local news media.

ADDRESSES: You may submit comments or requests for copies or more information by any of the following methods. You may request hard copies or a CD-ROM of the documents.

E-mail: mark_sprick@fws.gov. Include “Laguna Atascosa Draft CCP and EA” in the subject line of the e-mail.

Fax: Attn: Mark Sprick, Natural Resource Planner, 505-248-6874.

U.S. Mail: Mark Sprick, AICP, Natural Resource Planner, U.S. Fish & Wildlife Service, Division of Planning, P.O. Box 1306, Albuquerque, NM 87103-1306.

In-Person Drop-off: You may drop off comments during regular business hours (8:00 am to 4:30 pm) at 500 Gold Avenue, SW., 4th Floor, Room 4005, Albuquerque, NM 87102.

Internet/Web site: http://www.fws.gov/southwest/refuges/Plan/index.html.

FOR FURTHER INFORMATION CONTACT: Sonny Perez, Wildlife Refuge Manager, Laguna Atascosa NWR, CCP-Project, 22817 Ocelot Road, Los Fresnos, TX 78566, or by phone at 956-748-3607, or fax at 956-748-3609; or Mark Sprick, AICP, Natural Resource Planner, by phone at 505-248-7411.

SUPPLEMENTARY INFORMATION:

Introduction

With this notice, we continue the CCP process for Laguna Atascosa NWR. We started this process through a notice in the Federal Register July 19, 2004 (69 FR 43010).

Laguna Atascosa NWR is located in Cameron and Willacy Counties, Texas, and encompasses 97,007 acres of brush lands, coastal prairies, freshwater and brackish pothole wetlands, estuarine wetlands, lomas (clay ridges), wind tidal flats, and barrier island beaches and dunes. Management efforts focus on protecting, enhancing, and restoring Refuge habitats and water management for the benefit of important fish and wildlife resources. The Refuge is a premiere birdwatching destination with 415 recorded bird species, more than any other national wildlife refuge. A total of nine federally listed endangered or threatened species occur within the Refuge, including four species of sea turtles. The largest United States population of endangered ocelot cats is located on the Refuge, making it the center for ocelot conservation and recovery.

Laguna Atascosa NWR was formally established by the Migratory Bird Commission on October 31, 1945, and the first tract forming the Refuge was acquired on March 29, 1946. The purposes of the Refuge are: “[F]or use as an inviolate sanctuary, or for any other management purpose, for migratory birds” (Migratory Bird Conservation Act of 1929 (16 U.S.C. 715d), as amended); “for wildlife conservation purposes if the real property has particular value in carrying out the national migratory bird management program” (Transfer of Certain Real Property for Wildlife Conservation Purposes Act of 1948 (16 U.S.C. 667b-667d), Public Law 80-537, as amended); “for the development, advancement, management, conservation and protection of fish and wildlife resources” (Fish and Wildlife Act of 1956 (16 U.S.C. 742(a)(4), as amended); and “for the benefit of the United States Fish and Wildlife Service, in performing its activities and services. Such acceptance may be subject to the terms of any restrictive or affirmative covenant, or condition of servitude” (Fish and Wildlife Act of 1956 (16 U.S.C. 742(b)(1), as amended).

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Public Outreach

To begin the CCP process, we opened a 60-day comment period on July 19, 2004 (69 FR 43010). We made draft documents and other relevant information available for public review at the Refuge headquarters. In February and June 2004, we held internal preplanning meetings at the Refuge to discuss concerns, issues, and opportunities for the future of the Refuge. We held four “open-house” public scoping meetings between February 28 and March 8, 2005, at Raymondville, Brownsville, Harlingen, and South Padre Island to solicit initial public input and involvement during the early stages of CCP development. We also invited the Texas Parks and Wildlife Department (TPWD) to participate as a partner in the planning process. We have considered and evaluated all of these comments received, and have incorporated many of them into the various alternatives we addressed in the draft CCP and the EA.

CCP Alternatives We Are Considering

During the public scoping process with which we started work on this draft CCP, we, other governmental partners, Tribes, and the public raised several issues. Our draft CCP addresses them. A full description of each alternative is in the EA. To address these issues, we developed and evaluated the following alternatives, summarized below.

| A: No-action alternative | B: Proposed action alternative | C: Optimize public-use alternative
Issue 1: Habitat Management Activities. | Biological program and habitat management would continue under existing plans; any expansions would occur opportunistically. | Integrated biological and habitat management efforts with landscape level and ecosystem level plans; emphasis on protection and monitoring of Federal trust species and priority species and their habitats. | Same as No-Action Alternative (Alternative A).
Issue 2: Improvements to public use opportunities. | Limited to current public use under existing plans; Any expansions would occur opportunistically. | Improvement of priority public uses, particularly hunting, fishing and wildlife observation, to meet demand when compatible with wildlife needs and Refuge purposes; expansion of research efforts and dynamic partnerships. | Expand and emphasize all priority public uses, particularly hunting and fishing and access to all Refuge areas to the maximum extent when compatible, based on public comments.
Issue 3: Staffing, Facilities, and Infrastructure. | Existing staffing (17 permanent positions) and facilities; any additional staff and facility expansions would occur opportunistically. | Addition of 11 staff to existing base; addition of over 6 miles of hike/bike trails; one auto tour route; 2 separate parking areas; new visitor center at Laguna Atascosa Unit. Visitor contact and research station at Bahia Grande. | Base funding and staffing would increase by 4 positions (Outdoor Recreation Planner and 3 Park Rangers); several additional miles of auto tour routes, 7 hike/bike trails and associated parking areas; visitor contact station; all primarily at Bahia Grande.

Public Availability of Documents

In addition to any methods in ADDRESSES, you can view or obtain documents at the following locations:

• At the Laguna Atascosa NWR Headquarters Office, 22817 Ocelot Road, Los Fresnos, TX 78566, 18 miles east of Rio Hondo, on Farm-to-Market Road 106, between the hours of 8 a.m. and 4:30 p.m., Monday through Friday.

• On our Web site: http://www.fws.gov/southwest/refuges/Plan/index.html.

• At the following public libraries:

Library | Address | Phone number
City of Brownsville Public Library | 2600 Central Blvd., Brownsville, TX 78520-8824 | 956-548-1055
Harlingen Public Library | 410 '76 Drive, Harlingen, TX 78550 | 956-427-8841
Laguna Vista Public Library | 1300 Palm Blvd., Laguna Vista, TX 78578 | 956-943-7155
Los Fresnos Public Library | 402 W. Ocean, Los Fresnos, TX 78566 | 956-233-5330
Port Isabel Public Library | 213 Yturria St., Port Isabel, TX 78578 | 956-943-2265
Willacy County/Reber Memorial Library | 190 N. 4th. St., Raymondville, TX 78580 | 956-689-2930
Rio Hondo Public Library | 121 N. Arroyo Blvd., Rio Hondo, TX 78583 | 956-748-3322
San Benito Public Library | 101 W. Rose St., San Benito, TX 78586 | 956-361-3860

Submitting Comments/Issues for Comment

We consider comments substantive if they:

• Question, with reasonable basis, the accuracy of the information in the document;

• Question, with reasonable basis, the adequacy of the EA;

• Present reasonable alternatives other than those presented in the EA; and/or

• Provide new or additional information relevant to the EA.

Next Steps

After this comment period ends, we will analyze the comments and address them in the form of a final CCP.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: November 4, 2009.
Brian A. Millsap,
Acting Regional Director, Region 2.

[FR Doc. E9-29637 Filed 12-11-09; 8:45 am]

BILLING CODE 4310-55-P